DEPARTMENT OF DEFENSE

Department of the Army

33 CFR Part 325

Request for Comments on the Corps Regulatory Program and the New Advisory Council on Historic Preservation 36 CFR Part 800 Regulations

AGENCY: Army Corps of Engineers, DoD.

ACTION: Request for comments.

SUMMARY: On January 11, 2001, the Advisory Council on Historic Preservation (ACHP) finalized its regulations at 36 CFR Part 800 to comply with the 1992 amendments to the National Historic Preservation Act (NHPA). Currently the Corps Regulatory Program uses procedures found at 33 CFR part 325, Appendix C, to comply with the NHPA and other laws dealing with historic properties. Since the principle law and the ACHP implementing regulations have been changed, the Corps of Engineers has determined that it is necessary to address these changes.

The Corps of Engineers is initiating a process to address the ACHP regulations for the Regulatory Program. The first step in this process is to solicit public views on 36 CFR part 800 regulation as it relates to the Corps Regulatory Program and Appendix C. The Corps also intends to issue interim guidance to address the use of Appendix C and the new 36 CFR part 800 regulations until this process is completed. This process may result in additional guidance, modifications to Appendix C, programmatic agreements, or other products.

DATES: Written comments must be submitted on or before May 7, 2002.

ADDRESSES: Mail comments to the U.S. Army Corps of Engineers, Institute for Water Resources, CEIWR-PD, 7701 Telegraph Road, Casey Building, Alexandria, Virginia 22315-3868.

FOR FURTHER INFORMATION CONTACT: Ms. Meg Smith, CEIWR-PD, at (703) 428-6370 or Ms. Katherine Trott at (202) 761-4617 or access the U.S. Army Corps of Engineers Regulatory Home Page at http://www.usace.army.mil/inet/functions/cw/cecwo/reg.

SUPPLEMENTARY INFORMATION: The Corps has identified some differences between the new regulations and Appendix C and is seeking comments from the public regarding issues and concerns related to their Regulatory Program, Appendix C procedures, and the new ACHP regulations at 36 CFR Part 800. Examples of some of these differences include: definition of scope of analysis (permit area versus area of potential effects); increased coordination with Indian Tribes, Alaska Natives, and Native Hawaiians; time allowed for review; requirement for memoranda of agreement for mitigating adverse affects; changes to ACHP involvement; resolution of violations and others.

This document is intended to provide Tribes, State Historic Preservation Officers, Tribal Historic Preservation Officers, and the public an opportunity to submit comments on the Corps Regulatory Program and the implementation of 33 CFR part 325, Appendix C and the new ACHP regulations at 36 CFR part 800.

Dated: March 4, 2002.
Lawrence A. Lang,
Acting Chief, Operations Division, Directorate of Civil Works.

[FR Doc. 02-5653 Filed 3-7-02; 8:45 am]

BILLING CODE 3710-92-P